DEPARTMENT OF STATE

[Public Notice: 10403]

Determination Pursuant to the Foreign Missions Act

Pursuant to the authority vested in the Secretary of State under the Foreign Missions Act, 22 U.S.C. 4301 et seq. (“the Act”), I hereby determine it is reasonably necessary to achieve one or more of the purposes set forth in section 204(b) of the Act (22 U.S.C. 4304(b)) to designate 3726 East Madison Street, Seattle, Washington, as a location and facilities for which entry or access is strictly prohibited by all individuals, including but not limited to representatives or employees of the Russian government and their dependents, without first obtaining written permission from the Department of State's Office of Foreign Missions. Such prohibitions will take effect as of 11:59 p.m. Pacific Daylight Time on April 24, 2018.

As a result, all persons on the said property are required to depart the premises no later than the date and time stated above.

For purposes of this Determination, 3726 East Madison Street, Seattle, Washington, includes any buildings and/or improvements thereon and the land ancillary thereto.

Access to the property will be subject to terms and conditions set forth by the Office of Foreign Missions.

Dated: April 19, 2018.
John J. Sullivan,
Acting Secretary of State.

[FR Doc. 2018-09286 Filed 5-1-18; 8:45 am]

BILLING CODE 4710-43-P